DEPARTMENT OF COMMERCE

National Institute of Standards and Technology

Visiting Committee on Advanced Technology

AGENCY: National Institute of Standards and Technology; Department of Commerce.

ACTION: Notice of public meeting.

SUMMARY: Pursuant to the Federal Advisory Committee Act, 5 U.S.C. app. 2, notice is hereby given that the Visiting Committee on Advanced Technology (VCAT), National Institute of Standards and Technology (NIST), will meet Tuesday, March 6, from 9 a.m. to 5 p.m. and Wednesday, March 7, from 9 a.m. to 11 a.m. The Visiting Committee on Advanced Technology is composed of fifteen members appointed by the Director of NIST who are eminent in such fields as business, research, new product development, engineering, labor, education, management consulting, environment, and international relations.

The purpose of this meeting is to review and make recommendations regarding general policy for the Institute, its organization, its budget, and its programs within the framework of applicable national policies as set forth by the President and the Congress. The agenda will include an update on NIST, an overview of NIST and its role in U.S. science & technology. Several laboratory tours also will be featured. The meeting will conclude with an extended discussion on NIST's overall role it plays in the nation's science and technology. The agenda may change to accommodate Committee business. The final agenda will be posted on the NIST Web site at http://www.nist.gov/director/vcat/agenda.htm.

DATES: The meeting will convene on March 6 at 9 a.m. and will adjourn on March 7, 2007, at 11 a.m.

ADDRESSES: The meeting will be held in the Employees Lounge, Administration Building, at NIST, Gaithersburg, Maryland. All visitors to the NIST site will have to pre-register to be admitted. Please submit your name, time of arrival, e-mail address and phone number to Denise Herbert no later than Thursday, March 1 and she will provide you with instructions for admittance. Ms. Herbert's e-mail address is denise.herbert@nist.gov and her phone number is (301) 975-2300.

FOR FURTHER INFORMATION CONTACT: Denise Herbert, Visiting Committee on Advanced Technology, National Institute of Standards and Technology, Gaithersburg, MD 20899-1000, telephone number (301) 975-2300.

Dated: February 8, 2007.
James E. Hill,
Acting Deputy Director.

[FR Doc. E7-2453 Filed 2-12-07; 8:45 am]

BILLING CODE 3510-13-P